DEPARTMENT OF TRANSPORTATION

Federal Aviation Administration

14 CFR Part 73

[Docket No. FAA-2003-14369; Airspace Docket No. 03-AWA-1]

RIN 2120-AA66

Revision of Prohibited Area P-49 Crawford; TX

AGENCY: Federal Aviation Administration (FAA), DOT.

ACTION: Final rule.

SUMMARY: This action modifies Prohibited Area 49 (P-49), over the President of the United States' residence at Crawford, TX. The FAA is modifying this airspace to enhance security in the immediate vicinity of the presidential residence, and to assist the United States Secret Service (USSS) in accomplishing its mission of providing security for the President of the United States.

EFFECTIVE DATE: 0901 UTC, May 15, 2003.

FOR FURTHER INFORMATION CONTACT: Steve Rohring, Airspace and Rules Division, ATA-400, Office of Air Traffic Airspace Management, Federal Aviation Administration, 800 Independence Avenue, SW., Washington, DC, 20591; telephone: (202) 267-8783.

SUPPLEMENTARY INFORMATION:

History

On January 6, 2003, the USSS requested that the FAA modify the current description of P-49, to enhance the level of security provided for the President. Specifically, the USSS requested that we relocate the center of the prohibited area.

Under the provision of § 73.83 of Title 14 Code of Federal Regulations (14 CFR) part 73 (part 73), no person may operate an aircraft within that area without permission from the using agency. This action responds to that request.

The Rule

This amendment to 14 CFR part 73 modifies P-49, Crawford, TX. Currently, the prohibited area extends from the surface to 5,000 feet above mean sea level (MSL) within a 3-nautical mile (NM) radius of latitude 31°34′57″ N., longitude 97°32′37″ W. This action relocates the center of the prohibited area approximately one-half nautical mile east-southeast of its current location to latitude 31°34′45″ N., longitude 97°32′00″ W. This action is a minor modification of the center coordinates for the airspace area. Flight within this area is prohibited unless permission is obtained from the using agency. Because of the immediate need to enhance the security of the President, I find that notice and public procedure under 5 U.S.C. 553(b) are impracticable.

Section 73.89 of 14 CFR part 73 was republished in FAA Order 7400.8K, dated September 26, 2002.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1D, Policies and Procedures for Considering Environmental Impacts. This airspace action is not expected to cause any potentially significant environmental impacts, no extraordinary circumstances exist that warrant preparation of an environmental assessment.

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.89 [Amended]

2. § 73.89 is amended as follows:

* * * * *

P-49 Crawford, TX [Amended]

By removing “Boundaries. That airspace within a 3 NM radius of lat. 31°34′57″ N., long. 97°32′37″ W.,” and substituting “Boundaries. That airspace within a 3 NM radius of lat. 31°34′45″ N., long. 97°32′00″ W.,” in its place.

* * * * *

Issued in Washington, DC, on February 6, 2003.
Reginald C. Matthews,
Manager, Airspace and Rules Division.

[FR Doc. 03-3964 Filed 2-18-03; 8:45 am]

BILLING CODE 4910-13-P